DEPARTMENT OF HOUSING AND URBAN DEVELOPMENT

[Docket No. FR-7092-N-29]

Privacy Act of 1974; System of Records

AGENCY: Office of Housing, HUD.

ACTION: Notice of a modified system of records.

SUMMARY: Under the Privacy Act of 1974, as amended, the Department of Housing and Urban Development (HUD), Office of Single-Family Program Development is issuing a public notice of its intent to amend the system of records for the Single-Family Housing Enterprise Data Warehouse (SFHEDW). This amendment updates the system of records location, system manager, authority, purpose, policies and practices for storage, retrieval, retention and disposal of records and safeguards. The existing scope, objectives, business processes, and uses remain unchanged.

DATES: Comments will be accepted on or before July 15, 2024. This proposed action will be effective on the date following the end of the comment period unless comments are received which result in a contrary determination.

ADDRESSES: You may submit comments, identified by docket number or by one of the following methods:

Federal e-Rulemaking Portal: http://www.regulations.gov. Follow the instructions provided on that site to submit comments electronically.

Fax: 202-619-8365.

Email: www.privacy@hud.gov.

Mail: Attention: Privacy Office; Mr. LaDonne White, Chief Privacy Officer; Office of the Executive Secretariat; 451 Seventh Street SW, Room 10139; Washington, DC 20410-0001.

Instructions: All submissions received must include the agency name and docket number for this rulemaking. All comments received will be posted without change to http://www.regulations.gov including any personal information provided.

Docket: For access to the docket to read background documents or comments received go to http://www.regulations.gov.

FOR FURTHER INFORMATION CONTACT: LaDonne White; 451 Seventh Street SW, Room 10139; Washington, DC 20410; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD amends the system of records notice (SORN) for the Single-Family Housing Enterprise Data Warehouse (SFHEDW) to include these substantive changes reflecting the new and modified items listed below and administrative updates to regulatory references along with wording and format changes throughout the SORN.

i. System Locations: The system locations are being updated to reflect current operating conditions.

ii. System Manager: Updated to reflect current personnel.

iii. Authority For Maintenance of the System: Updated to include additional citations for the legal authority which were inadvertently omitted from the previous SORN.

iv. Categories of Individuals Covered by the System: Updates have been made to be consistent with categories of individuals in the source systems that send records to the SFHEDW.

v. Categories of Records Covered by the System: Updates have been made to be consistent with categories of individuals in the source systems that send records to the SFHEDW.

vi. Record Source Categories: Updates to reflect current operations. F42D—Single Family Default Monitoring System (SFDMS) has been removed because it is no longer integrated with SFHEDW. P013-FHA, HMDA, A80H and A43C have been removed because they do not involve sending or receiving PII from individuals.

vii. Routine Uses of Records Maintained in the System: Editorial changes and updates have been made to the routine uses, which were numbered in the previously published SORN. In this update, the routine uses are listed by letter and re-organized to be consistent with the source systems' notices.

Specifically, Numbers 1 and 2 are combined and restated in New B. Number 3 becomes D. Numbers 4 and 5 are combined to become E. Number 6 becomes A.

New routine use C is added for disclosures necessary to respond to Congressional inquiries.

New routine use F is added for disclosures to appropriate Federal, State, local, tribal, or other governmental agencies or multilateral governmental organizations responsible for investigating or prosecuting the violations of, or for enforcing or implementing, a statute, rule, regulation, order, or license, where HUD determines that the information would help in the enforcement of civil or criminal laws and when such records, either alone or in conjunction with other information, indicate a violation or potential violation of law.

New Routine G is being added for disclosures to a court, magistrate, administrative tribunal, or arbitrator in the course of presenting evidence, including disclosures to opposing counsel or witnesses in civil discovery, litigation, mediation, or settlement negotiations; or in connection with criminal law proceedings; when HUD determines that use of such records is relevant and necessary to the litigation and when any of the following is a party to the litigation or have an interest in such litigation: (a) HUD, or any component thereof; or (b) any HUD employee in his or her official capacity; or (c) any HUD employee in his or her individual capacity where HUD has agreed to represent the employee; or (d) the United States, or any agency thereof, where HUD determines that litigation is likely to affect HUD or any of its components.

Finally, the reference to other HUD discretionary routine uses is deleted as these uses are now stated within this notice.

viii. Policies and Practices for Retention and Disposal of Records: Editorial changes and updates to reflect current practices.

ix. Administrative, technical and physical safeguards: Editorial changes and updates to reflect current practices.

SYSTEM NAME AND NUMBER:

Single Family Housing Enterprise Data Warehouse. HOU.SF/HUD-05.

SECURITY CLASSIFICATION:

Unclassified.

SYSTEM LOCATION:

SFHEDW is housed in the HUD Data Center, which is located and backed up on servers housed at the National Center for Critical Information Processing and Storage at NASA's Shared Services Center, Building 1111, Stennis Space Center, MS 39529-6000.

The backup location for SFHEDW is in Clarksville, Virginia.

SYSTEM MANAGER(S):

Brian Faux Director, Office of Single-Family Program Development, Department of Housing and Urban Development, 451 Seventh Street SW, Washington, DC 20410-0001. Telephone Number Phone: 800-CALL-FHA (800-225-5342).

AUTHORITY FOR MAINTENANCE OF THE SYSTEM:

The legal authorities to maintain the Single-Family Housing Enterprise Data Warehouse are:

Title I, section 2 of the National Housing Act (12 U.S.C. 1703), section 203 of the National Housing Act (12 U.S.C. 1708), section 203 of the National Housing Act (12 U.S.C. 1709), section 255 of the National Housing Act (12 U.S.C. 1715z-20), 31 U.S.C. 7701, 42 U.S.C. 3543, 24 CFR part 200, subpart U and 24 CFR 203.35.

PURPOSE(S) OF THE SYSTEM:

The SFHEDW is an ongoing, fully operational data warehouse that is the key source for HUD employees and contractors who require access to Single Family mortgage insurance data. Users of SFHEDW have assigned roles, including a “need-to-know” standard access to the system's information. SFHEDW is an integrated data warehouse that contains critical Single Family business data from twenty (20) originating source systems, mostly from FHA Single Family automated systems. The system allows queries for reporting to support oversight activities, market and economic assessment, public and stakeholder communication, planning and performance evaluation, policies and guidelines promulgation, monitoring and enforcement.

CATEGORIES OF INDIVIDUALS COVERED BY THE SYSTEM:

System Users, Mortgagors (Borrowers), HECM Non-Borrowing Spouses, Appraiser Roster, 203k Coordinator Roster, Mortgagee (Lender) Staff including, but not limited to, loan originators, appraisers, underwriters, processors and file clerks, Individuals registering for access to the HUD Housing Counselor Certification Examination, Individuals registering for HUD Certified Housing Counselor status or for Housing Counseling Agency Application Coordinator for FHA Connection, Client Certificate of Housing Counseling.

CATEGORIES OF RECORDS IN THE SYSTEM:

Mortgagors (Borrowers): Name, address, SSN or other identification number, racial/ethnic background (if disclosed), date of birth, sex (if disclosed) credit scores (often referred to as FICO® scores), marital status, and details about FHA insured loans, including loan application documentation. HECM Non-Borrowing Spouses: Name, SSN or other identification number, date of birth, and details about the mortgage loan, including application documentation. This information is collected by lenders during the mortgage application and underwriting process and provided to HUD when the lender applies for mortgage insurance.

Appraiser: CHUMS maintains and publishes a roster of approved appraisers with the Name (First, Middle, Last), address, email address, licensing, and demographic data including racial/ethnic background, Minority Business Enterprise (MBE) Code, and sex, for statistical tracking purposes.

203K Program Appraiser: name, address, email address, the Appraiser Roster minority data including racial/ethnic background, Minority Business Enterprise (MBE) Code, and sex, for statistical tracking purposes.

Lender Staff including, but not limited to, loan originators, appraisers, underwriters, processors, and file clerks: SSN, Nationwide Mortgage Licensing System (NMLS) number, or other identification number, market territory, and transaction history or workload of the individuals.

Individuals registering for access to the HUD Housing Counselor Certification Examination: Legal first and last name, mailing address, telephone number, email address, fax number (if applicable), SSN, and employer's HUD Housing Counseling System (HCS) number. (If registrant's employer is a housing counseling agency participating in HUD's Housing Counseling Program). Registrants have the option of providing demographic information: race, ethnicity, gender, and languages in which counseling services are offered.

Individuals registering for HUD Certified Housing Counselor status or for Agency Application Coordinator for FHA Connection: Legal first and last name, mailing address, telephone number, email address, fax number (if applicable), SSN, HUD Housing Counselor Certification System ID number, mother's maiden name, and employer's HUD Housing Counseling System (HCS) ID number, and verification of employing agency's name.

Housing Counseling Clients and Certificate Data: Legal first and last name and address of the housing counseling client receiving counseling services from an agency participating in HUD's Housing Counseling Program; legal first and last name and the Counselor ID number of the counselor completing the client certificate of housing counseling; name, address, telephone number, Employer Identification Number (EIN).

HUD Employees: Names and identification of all HUD employees who have access to the system records. Also, identification information is stored for employees who work with mortgage applications through FHA Connection.

RECORD SOURCE CATEGORIES:

Mortgagors, appraisers, mortgagee staff, underwriters, and HUD employees provide data to the originating source systems. The originating source systems that provide data to SFHEDW are as follows:

1. A43—Single Family Insurance System (SFIS).

2. A80R—Single Family Premium Collections System—Upfront (SFPCS-U).

3. A80S—Single Family Acquired Assets Management System (SAMS).

4. F17—Computerized Home Underwriting Mortgage System (CHUMS).

5. F72—Title I Insurance and Claims System (TIIS).

6. F71A—Generic Debt Management System (GDEBT).

7. A15—Geocoding Service Center (GSC).

8. P271—Home Equity Reverse Mortgage Information Technology (HERMIT).

9. P269—Ginnie Mae's Reporting and Feedback System (RFS).

10. P238—Ginnie Mae's Portfolio Analysis Database System/Corporate Watch (GPADS/CW).

11. P278—Lender Electronic Assessment Portal (LEAP).

ROUTINE USES OF RECORDS MAINTAINED IN THE SYSTEM, INCLUDING CATEGORIES OF USERS AND PURPOSES OF SUCH USES:

A. To appropriate agencies, entities, and persons when (1) HUD suspects or has confirmed that there has been a breached of the system of records, (2) HUD has determined that because of the suspected or confirmed breach there is a risk of harm to individuals, HUD (including its information systems, programs, and operations), the Federal Government, or national security; and (3) the disclosure made to such agencies, entities, and persons is reasonably necessary to assist with HUD's efforts to respond to the suspected or confirmed breach or to prevent, minimize, or remedy such harm.

B. To another Federal agency or Federal entity, when HUD determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

C. To any component of the Department of Justice or other Federal agency conducting litigation or in proceedings before any court, adjudicative, or administrative body, when HUD determines that the use of such records is relevant and necessary to the litigation and when any of the following is a party to the litigation or have an interest in such litigation: (a) HUD, or any component thereof; or (b) any HUD employee in his or her official capacity; or (c) any HUD employee in his or her individual capacity where the Department of Justice or agency conducting the litigation has agreed to represent the employee; or (d) the United States, or any agency thereof, where HUD determines that litigation is likely to affect HUD or any of its components.

D. To a congressional office from the record of an individual in response to an inquiry from that congressional office made at the request of the individual to whom the record pertains.

E. To the General Accounting Office (GAO), for audit purposes.

F. To contractors, grantees, experts, consultants, and the agents thereof, and others performing or working on a contract, service, grant, cooperative agreement with HUD, when necessary to accomplish an agency function related to its system of records, including but not limited to testing of technology. Such disclosure to be limited to only those data elements considered relevant to accomplishing an agency's function. Individuals provided information under this routine use are subject to the same Privacy Act requirements and limitations on disclosure as are applicable to HUD officers and employees.

G. To appropriate Federal, State, local, Tribal, or other governmental agencies or multilateral governmental organizations responsible for investigating or prosecuting the violations of, or for enforcing or implementing, a statute, rule, regulation, order, or license, where HUD determines that the information would help in the enforcement of civil or criminal laws and when such records, either alone or in conjunction with other information, indicate a violation or potential violation of law.

H. To a court, magistrate, administrative tribunal, or arbitrator in the course of presenting evidence, including disclosures to opposing counsel or witnesses in civil discovery, litigation, mediation, or settlement negotiations; or in connection with criminal law proceedings; when HUD determines that use of such records is relevant and necessary to the litigation and when any of the following is a party to the litigation or have an interest in such litigation: (a) HUD, or any component thereof; or (b) any HUD employee in his or her official capacity; or (c) any HUD employee in his or her individual capacity where HUD has agreed to represent the employee; or (d) the United States, or any agency thereof, where HUD determines that litigation is likely to affect HUD or any of its components.

POLICIES AND PRACTICES FOR STORAGE OF RECORDS:

Electronic.

POLICIES AND PRACTICES FOR RETRIEVAL OF RECORDS:

Name, Social Security Number, Telephone Number, Case Number.

POLICIES AND PRACTICIES FOR RENTENTION AND DISPOSAL OF RECORDS:

Records within SFHEDW are permanent and can be maintained until they are no longer needed for administrative, legal, audit, or other operational purposes.

ADMINISTRATIVE, TECHNICAL, AND PHYSICAL SAFEGUARDS:

Administrative Safeguards: Electronic records are maintained in secured areas, and access is limited to authorized personnel. There are no paper records maintained requiring safeguarding by this system.

Physical Safeguards: Controls to secure the data and protect electronic records, buildings, and related infrastructure against threats associated with their physical environment include, but are not limited to, using cypher and combination locks, key card-controlled access, security guards, closed circuit TV, identification badges, and safes. Administrative controls include encryption of back-up data, back-ups secured off-site, methods to ensure only authorized users have access to PII, periodic security audits, regular monitoring of system users' behavior and users' Security Practices.

Technical Safeguards: Controls for the systems include, but are not limited to, encryption of Data at Rest and in Transit, firewalls at HUD, user ID, password protection, role-based access controls, Least Privileged access, elevated and/or administrative privileged access, Personal Identify Verification cards, intrusion detection systems. Unauthorized access is controlled by application-level security.

RECORD ACCESS PROCEDURES:

Individuals requesting records of themselves should address written inquiries to the Department of Housing Urban and Development 451 7th Street SW, Washington, DC 20410-0001. For verification, individuals should provide their full name, current address, and telephone number. In addition, the requester must provide either a notarized statement or an unsworn declaration made under 24 CFR 16.4.

CONTESTING RECORD PROCEDURES:

The rule for contesting the content of any record pertaining to the individual by the individual concerned is published in 24 CFR 16.8 or may be obtained from the system manager.

NOTIFICATION PROCEDURES:

Individuals requesting notification of records of themselves should address written inquiries to the Department of Housing Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

None.

HISTORY:

80-FR-12516, March 09, 2015.

Ladonne White,
Chief Privacy Officer, Office of Administration.

[FR Doc. 2024-13147 Filed 6-13-24; 8:45 am]

BILLING CODE 4210-67-P